DEPARTMENT OF THE INTERIOR

Fish and Wildlife Service

Notice of Availability of Revised Comprehensive Conservation Plan for the Alaska Peninsula and Becharof National Wildlife Refuges

AGENCY: U.S. Fish and Wildlife Service, Department of the Interior.

ACTION: Notice of availability.

SUMMARY: The U.S. Fish and Wildlife Service announces that a Revised Comprehensive Conservation Plan (Conservation Plan) and Environmental Impact Statement for the Alaska Peninsula and Becharof National Wildlife Refuge is available for review and comment. This Conservation Plan was prepared pursuant to the Alaska National Interest Lands Conservation Act, the National Wildlife Refuge System Administration Act of 1966, as amended by the National Wildlife Refuge System Improvement Act of 1997, and the National Environmental Policy Act of 1969. It describes how the Service intends to manage these refuges over the next 15 years.

DATES: Please submit comments on the Conservation Plan and Environmental Impact Statement on or before 30 days from the date of publication of this Notice.

ADDRESSES: The Conservation Plan is available on compact diskette or over the Internet. You may obtain a copy of the CD by writing: Peter Wikoff, Planing Team Leader, U.S. Fish and Wildlife Service, 1011 East Tudor Road, MS 231, Anchorage, AK 99503. You may access or download the Conservation Plan at http://www.r7.fws.gov/nwr/planning/plans.htm. Comments may be sent to the above address or to fw7_apb_planing@fws.gov.

FOR FURTHER INFORMATION CONTACT: Peter Wikoff, (907) 786-3837.

SUPPLEMENTARY INFORMATION: The Alaska National Interest Lands Conservation Act (ANILCA) requires a conservation plan for all refuges in Alaska. We developed this Conservation Plan consistent with § 304(g) of ANILCA and the National Wildlife Refuge System Administration Act of 1966, as amended by the National Wildlife Refuge System Improvement Act of 1997. The purpose in developing conservation plans is to provide refuge managers with a 15-year strategy for achieving refuge purposes and contributing toward the mission of the National Wildlife Refuge System, consistent with sound principles of fish and wildlife science, conservation, legal mandates, and Service policies. In addition to outlining broad management direction on conserving wildlife and their habitats, conservation plans identify wildlife-dependent recreational opportunities available to the public, including opportunities for hunting, fishing, wildlife observation and photography, and environmental education and interpretation. We review and update these plans in accordance with planning direction in § 304(g) of ANILCA, the National Environmental Policy Act of 1969 (42 U.S.C. 4321-4370d), and Service planning policy.

Background: The Conservation Plan and Environmental Impact Statement is a revision of plans which were adopted in 1985 and 1987. It combines plans for the Becharof NWR and portions of the Alaska Peninsula and Alaska Maritime NWRs, which are managed jointly as the Alaska Peninsula and Becharof National Wildlife Refuges. This plan provides broad general direction for managing the Refugees for the next 15 years and contains the vision, goals, and objectives of the Refuges. Except for alternative ways of addressing the issues, this plan substantially follows the direction of the original plans. Traditional means of access and uses of the Refuges would be maintained under all alternatives.

The Alaska Peninsula and Becharof National Wildlife Refuges are comprised of the Becharof NWR, the Ugashik and Chignik Units of the Alaska Peninsula NWR, and the Seal Cape Unit of the Alaska Maritime NWR. The Refuges encompass approximately 4,240,000 acres along the Pacific side of the Alaska Peninsula starting about 10 miles south of the Refuge headquarters in King Salmon and extending for approximately 250 miles.

The Alaska Peninsula is a land of towering mountains, active volcanoes, broad valleys, fjords, tundra, and glacially formed lakes. From the coastal lowlands on the Bristol Bay side of the Refuges the land rises to steep glaciated mountains and volcanoes, then plunges to cliffs and sandy beaches on the Pacific side. The Bristol Bay side of the Refuges consists primarily of rolling moist to wet tundra, lakes, and wetlands. The snow-covered, heavily glaciated Aleutian Mountain Range bisects the Refuges with volcanic peaks rising to more than 8,200 feet. The Pacific coastline is rugged, with sea cliffs rising hundreds of feet from the water. Numerous streams and several large rivers originate within the Refuges.

The Becharof National Wildlife Refuge contains the 300,000-acre Becharof Lake, the second largest lake in Alaska, and the 503,000-acre Becharof Wilderness Area. Mt. Peulik, a 4,800-foot volcano with lava flows reaching to Becharof Lake is a prominent landmark.

The Alaska Peninsula National Wildlife Refuge contains the culturally and economically important Ugashik Lakes. The area around Mother Goose Lake provides important habitat for moose and a number of bird species. Volcanoes have been active in the recent past. Mt. Veniaminof, a stratovolcano with a base 30 miles in diameter and a summit crater 20 miles in circumference, last erupted in 2004. Mt. Veniaminof has the most extensive crater glacier in the United States and is the only known glacier on the continent with an active volcanic vent in its center. The 800,000-acre Mt. Veniaminof National Natural Landmark recognizes the unique qualities of this area.

The Alaska Maritime National Wildlife Refuge includes Federally-owned islands, sea stacks, columns, islets, and rocks off the coast of Alaska. Seal Cape, a 9,900-acre headland, is the only part of the Alaska Maritime Refuge included in this Conservation Plan. Narrow bays cut Seal Cape into two main arms which rise to peaks of more than 2,000 feet.

More than 2,000 people live in 12 communities located near the Refuges. The region is characterized by a mixed cash-subsistence economy. The cash economy is dominated by commercial fishing, tourism, and government employment. The Refuges sustain nearly 1,500 local jobs and contribute $70 million in income annually to the local economy, nearly all through supporting the commercial fishery by providing salmon spawning and rearing habitat.

Issues raised during scoping and addressed in this Revised Conservation Plan are: (1) Access to remote and sensitive areas; (2) conflicts between Refuge user groups.

This Revised Conservation Plan identifies and evaluates four alternatives for managing the Refuges for the next 15 years. These alternatives follow the same general management direction but provide different ways of addressing the issues.

Alternative 1: No Action: Management of the Refuge would continue to follow the current course of action as identified and described in the existing plans and Records of Decision for these refuges. The ranges and intensities of management activities would be maintained. Private and commercial uses of the Refuges would be unchanged. Refuge management would continue to reflect existing laws, executive orders, regulations, and policies governing Service administration and operation of the National Wildlife Refuge System. Helicopter access/landing for recreational purposes, outside of designated Wilderness, would be evaluated on a case-by-case basis.

Alternative 2: There would be no change in the way lands are managed or in how the public can access the Refuges. Research and monitoring provide goals and objectives for increasing our knowledge of wildlife and habitat needs and relationships. Public use monitoring would facilitate wildlife dependent recreation, subsistence, and other traditional uses. Helicopter landings for recreational purposes would not be allowed in sensitive resource areas, at sensitive times, or where remoteness was a primary quality of the area. Landings could be considered in other areas. The Service would develop a process for identifying sensitive areas, in cooperation with the State of Alaska and other interested parties.

Alternative 3: Research and monitoring provide goals and objectives for increasing our knowledge of wildlife and habitat needs and relationships. Public use monitoring would facilitate wildlife dependent recreation, subsistence, and other traditional uses. Helicopter access/landing for recreational access would not be allowed. The boundary of the Yantarni Bay Moderate Management Area would be adjusted to coincide with geographically identifiable features while including ORV trails and areas of moderate use.

Alternative 3a: Preferred Alternative: Research and monitoring provide goals and objectives for increasing our knowledge of wildlife and habitat needs and relationships. Public use monitoring would facilitate wildlife dependent recreation, subsistence, and other traditional uses. Helicopter access/landing for recreational purposes, outside of designated Wilderness, would be evaluated on a case-by-case basis. The boundary of the Yantarni Bay Moderate Management Area would be adjusted to coincide with geographically identifiable features while including ORV trails and areas of moderate use.

Comment Period: 30 days from date of publication of this notice.

Availability of Documents: This Revised Conservation Plan may be obtained on compact diskette by writing to the U.S. Fish and Wildlife Service, Attn: Peter Wikoff, 1011 East Tudor Road, MS 231, Anchorage, AK 99503; telephone (907) 786-3837; fax (907) 786-3965; e-mail peter_wikoff@fws.gov. Copies of the Conservation Plan may be viewed at the Refuge Office in King Salmon, AK, local libraries, and the U.S. Fish and Wildlife Service Regional Office, Anchorage, AK. The Conservation Plan is also available online at http://www.r7.fws.gov/planning/plans.htm.

Your Comments: Comments may be addressed to Peter Wikoff, U.S. Fish and Wildlife Services, 1011 East Tudor Road, MS 231, Anchorage, AK 99503 or fw7_apb_planning@fws.gov.

Dated: July 21, 2005.
Rowan Gould,
Regional Director, U.S. Fish and Wildlife Service, Anchorage, Alaska.

[FR Doc. 05-20380 Filed 10-11-05; 8:45 am]

BILLING CODE 4310-55-M